DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10 (a)(1)(A) of the Endangered Species Act of 1973, as amended (16 U.S.C. 1531 et seq.).

Permit No. TE-028876

Applicant: The Nature Conservancy, Portland, Oregon.

The applicant requests a permit to take (capture, handle, and release) the Lost River sucker (Deltistes luxatus) and shortnose sucker (Chasmistes brevirostris) in conjunction with restoration actions in the Williamson River and Agency Lake, Oregon, for the purpose of enhancing their survival.

Permit No. TE-026227

Applicant: Joseph Silveira, Willows, California.

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni), and remove and reduce to possession specimens of Cordylanthus palmatus, Cordylanthus mollis ssp. mollis, Orcuttia californica, Orcuttia pilosa, Orcuttia viscida, Tuctoria greenei, and Tuctoria mucronata in conjunction with surveys and the collection of voucher specimens throughout each species' range in California for the purpose of enhancing their survival.

Permit No. TE-002716

Applicant: Kenneth J. Halama, Riverside, California.

The applicant requests a permit to take (capture and handle) the arroyo southwestern toad (Bufo microscaphus californicus) in conjunction with conducting natural history research throughout the species' range for the purpose of enhancing its survival.

Permit No. TE-839213

Applicant: David Philip Muth, Jr., Martinez, California.

The permittee requests an amendment to take (harass by survey, collect and sacrifice) the San Diego fairy shrimp (Brachinecta sandiegonensis) and the Riverside fairy shrimp (Streptocephalus woottoni) in conjunction with surveys throughout each species' range in California for the purpose of enhancing their survival.

Permit No. TE-839480

Applicant: Richard Zembal, Laguna Hills, California.

The applicant requests a permit to take (harass by survey, locate and monitor nests) the southwestern willow flycatcher (Empidonax traillii extimus) and take (monitor nests, capture, mark, band, and release) the least Bell's vireo (Vireo bellii pusillus) in conjunction with scientific research throughout each species range in California for the purpose of enhancing their survival.

Permit No. TE-028810

Applicant: Althouse and Meade, Inc., Paso Robles, California.

The applicant requests a permit to take (capture and handle) the California tiger salamander (Ambystoma californiense) in conjunction with presence or absence surveys in Santa Barbara County, California for the purpose of enhancing its survival.

DATES: Written comments on these permit applications must be received on or before July 26, 2000.

ADDRESSES: Written data or comments should be submitted to the Chief—Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: June 19, 2000.
Don Weathers,
Acting Regional Director, Region 1, Portland, Oregon.

[FR Doc. 00-16033 Filed 6-23-00; 8:45 am]

BILLING CODE 4310-55-P